DEPARTMENT OF AGRICULTURE

Food Safety and Inspection Service

[Docket No. FSIS-2011-0021]

Codex Alimentarius Commission: Meeting of the Codex Committee on Food Import and Export Inspection and Certification Systems

AGENCY: Office of the Under Secretary for Food Safety, USDA.

ACTION: Notice of public meeting and request for comments.

SUMMARY: The Office of the Under Secretary for Food Safety, U.S. Department of Agriculture (USDA), Food Safety and Inspection Service (FSIS) is sponsoring a public meeting on October 4, 2011. The objective of the public meeting is to provide information and receive public comments on agenda items, and draft United States (U.S.) positions that will be discussed at the 19th Session of the Codex Committee on Food Import and Export Inspection and Certification Systems (CCFICS), of the Codex Alimentarius Commission (Codex), which will be held in Cairns, Australia October 17-21, 2011. The Under Secretary for Food Safety recognizes the importance of providing interested parties the opportunity to obtain background information on the 19th Session of the CCFICS, and to address items on the agenda.

DATES: The public meeting is scheduled for Tuesday, October 4, 2011, from 11 a.m.-12:30 p.m.

ADDRESSES: The public meeting will be held in the South Agriculture Building, USDA, 1400 Independence Avenue, SW., Room 0161-S, Washington, DC 20250. Documents related to the 19th Session of the CCFICS will be accessible via the World Wide Web at the following address: http://www.codexalimentarius.net/current.asp

Mary Stanley, U.S. Delegate to the 19th Session of the CCFICS invites U.S. interested parties to submit their comments electronically to the following e-mail address Mary.Stanley@fsis.usda.gov.

Call-In Number:

If you wish to participate in the public meeting for the 19th Session of the CCFICS by conference call, please use the call-in number and participant code listed below.

Call-in Number: 1-888-858-2144.

Participant Code: 6208658.

FOR FURTHER INFORMATION About the 19th Session of the CCFICS CONTACT: Mary Stanley, Director, International Policy Division, Office of Policy and Program Development, FSIS, USDA, South Agriculture Building, Room 2925, 1400 Independence Avenue, SW., Washington, DC 20250, telephone: (202) 720-0287, fax: (202) 720-4929, e-mail: Mary.Stanley@fsis.usda.gov.

For Further Information About the Public Meeting Contact: Karen Stuck, U.S. Codex Office, 1400 Independence Avenue, SW., Room 4861, Washington, DC 20250, telephone: (202) 205-7760, fax: (202) 720-3157, e-mail: uscodex@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCFICS Is Responsible for

(a) Developing principles and guidelines for food import and export inspection and certification systems with a view to harmonizing methods and procedures which protect the health of consumers, ensure fair trading practices and facilitate international trade in foodstuffs.

(b) Developing principles and guidelines for the application of measures by the competent authorities of exporting and importing countries to provide assurance where necessary that foodstuffs comply with requirements, especially statutory health requirements.

(c) Developing guidelines for the utilization, as and when appropriate, of quality assurance systems to ensure that foodstuffs conform to requirements and to promote the recognition of these systems in facilitating trade in food products under bilateral/multilateral arrangements by countries.

(d) Developing guidelines and criteria with respect to format declarations and language of such official certificates as countries may require with a view towards international harmonization.

(e) Making recommendations for information exchange in relation to food import/export control.

(f) Consulting as necessary with other international groups working on matters related to food inspection and certification systems.

(g) Considering other matters assigned to it by Codex in relation to food inspection and certification systems.

The CCFICS is hosted by Australia.

Issues To Be Discussed at the Public Meeting

The following items on the agenda for the 19th Session of the CCFICS will be discussed during the public meeting:

• Matters referred to the Committee by Codex and other Codex Committees and Task Forces.

• Activities of the FAO and the WHO relevant to the work of the CCFICS.

• Activities of other international organizations relevant to the work of the CCFICS.

• Proposed draft Principles and Guidelines for National Food Control Systems.

• Other business and future work.

• Discussion paper on further guidance regarding attestation in Generic Model Official Certificate.

• Proposals for new work.

Each issue listed will be fully described in documents distributed, or to be distributed, by the Secretariat prior to the meeting. Members of the public may access copies of these documents (see ADDRESSES).

Public Meeting

At the October 4, 2011, public meeting, draft U.S. positions on the agenda items will be described and discussed, and attendees will have the opportunity to pose questions and offer comments. Written comments may be offered at the meeting or sent to Mary Stanley, U.S. Delegate for the 19th Session of the CCFICS (see ADDRESSES). Written comments should state that they relate to activities of the 19th Session of the CCFICS.

USDA Nondiscrimination Statement

USDA prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue, SW., Washington, DC 20250-9410 or call (202) 720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience. In addition, FSIS offers an e-mail subscription service which provides automatic and customized access to selected food safety news and information. This service is available at http://www.fsis.usda.gov/News_&_Events/Email_Subscription/. Options range from recalls, export information, regulations, directives, and notices. Customers can add or delete subscriptions themselves, and have the option to password protect their accounts.

Done at Washington, DC, on September 20, 2011.
Karen Stuck,
U.S. Manager for Codex Alimentarius.

[FR Doc. 2011-24797 Filed 9-26-11; 8:45 am]

BILLING CODE 3410-DM-P